INTER-AMERICAN FOUNDATION

60-Day Notice for the “Candidate Survey”

AGENCY: Inter-American Foundation.

ACTION: Notice.

SUMMARY: The Inter-American Foundation (IAF), as part of its continuing efforts to reduce paperwork and respondent burden, conducts a preclearance consultation program to provide the general public and Federal agencies with an opportunity to comment on proposed and/or continuing collections of information in accordance with the Paperwork Reduction Act of 1995. This program helps ensure that requested data is provided in the desired format; reporting burden (time and financial resources) is minimized; collection instruments are clearly understood; and the impact of collection requirements on respondents is properly assessed. Currently, the IAF is soliciting comments concerning the information collection of the candidate experience when applying to positions at the IAF. The purpose of this survey is to give candidates the opportunity to provide feedback on where they found the job posting and their experience in the application and interview process. This will inform the IAF on ways to improve the recruitment and hiring process.

DATES: Written comments must be submitted to the office listed in the address section below within 60 days from the date of this publication in the Federal Register.

ADDRESSES: Send comments to Natalia Mandrus, Inter-American Foundation, via email to nmandrus@iaf.gov, and Nicole Stinson, Inter-American Foundation via email to nstinson@iaf.gov.

SUPPLEMENTARY INFORMATION: The IAF is particularly interested in comments which:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Can help the agency minimize the burden of the collection of information on those who are to respond, including through the use of appropriate automated, electronic, mechanical, or other technological collection techniques or other forms of information technology, e.g., permitting electronic submission of responses.

Nicole Stinson,
Associate General Counsel.

[FR Doc. 2023-08499 Filed 4-20-23; 8:45 am]

BILLING CODE 7025-01-P